INTERNATIONAL TRADE COMMISSION

[USITC SE-05-036]

Sunshine Act Meeting

Agency Holding the Meeting: International Trade Commission.

Time and Date: November 2, 2005 at 2 p.m.

Place: Room 101, 500 E Street SW., Washington, DC 20436, Telephone: (202) 205-2000.

Status: Open to the public.

Matters to be Considered:

1. Agenda for future meetings: None.

2. Minutes.

3. Ratification List.

4. Inv. Nos. 751-TA-28-29 (Certain Frozen Warmwater Shrimp and Prawns from India and Taiwan)—briefing and vote. (The Commission is currently scheduled to transmit its determination and Commissioners' opinions to the Secretary of Commerce on or before November 21, 2005.)

5. Inv. No. 731-TA-464 (Second Review) (Sparklers from China)—briefing and vote. (The Commission is currently scheduled to transmit its determination and Commissioners' opinions to the Secretary of Commerce on or before November 15, 2005.)

6. Outstanding action jackets: None.

In accordance with Commission policy, subject matter listed above, not disposed of at the scheduled meeting, may be carried over to the agenda of the following meeting.

Issued: October 21, 2005.
By order of the Commission.
Marilyn R. Abbott,
Secretary to the Commission.

[FR Doc. 05-21587 Filed 10-25-05; 3:24 pm]

BILLING CODE 7020-02-P